DEPARTMENT OF COMMERCE

National Oceanic and Atmospheric Administration

[I.D. 062702A]

Marine Mammals; File Nos. 782-1676 and 1032-1679

AGENCY: National Marine Fisheries Service (NMFS), National Oceanic and Atmospheric Administration (NOAA), Commerce.

ACTION: Receipt of applications.

SUMMARY: Notice is hereby given that the following applicants have applied in due form for a permit to take marine mammals for scientific research:

National Marine Mammal Laboratory, 7600 Sand Point Way N.E., BIN C15700, Seattle, WA, 98115; and

Dr. Robert A. Garrott, Ecology Department, Montana State University, 310 Lewis Hall, Bozeman, MT 59717.

DATES: Written or telefaxed comments must be received on or before August 12, 2002.

ADDRESSES: The applications and related documents are available for review upon written request or by appointment in the following office(s):

Permits, Conservation and Education Division, Office of Protected Resources, NMFS, 1315 East-West Highway, Room 13705, Silver Spring, MD 20910; phone (301)713-2289; fax (301)713-0376; and

Northwest Region, NMFS, 7600 Sand Point Way NE, BIN C15700, Bldg. 1, Seattle, WA 98115-0700; phone (206)526-6150; fax (206)526-6426 (File 782-1676 only); and

Alaska Region, NMFS, P.O. Box 21668, Juneau, AK 99802-1668; phone (907)586-7221; fax (907)586-7249.

FOR FURTHER INFORMATION CONTACT: Carrie Hubard or Ruth Johnson, (301)713-2289.

SUPPLEMENTARY INFORMATION: The subject permits are requested under the authority of the Marine Mammal Protection Act of 1972, as amended (MMPA; 16 U.S.C. 1361 et seq.) and the Regulations Governing the Taking and Importing of Marine Mammals (50 CFR part 216).

For Permit No. 782-1676, the applicant proposes to take Alaska harbor seals and spotted seals to estimate population size and trend, current and net productivity rates, and current takes by commercial fisheries and subsistence hunters. One component of the research is to determine the relative proportion of seals at sea that are not counted during aerial census surveys.

For Permit No. 1032-1679, the applicant proposes to take Weddell seals (Leptonychotes weddellii) by capture, tag and release and conduct census surveys for population estimates on McMurdo Sound, Antarctica. Other species that may be incidentally taken are crabeater seal (Lobodon carcinophagus), leopard seal (Hydrurga leptonyx), Ross seal (Ommatophoca rossii), southern elephant seal (Mirounga leonina) and Antarctic fur seal (Arctocephalus gazella).

In compliance with the National Environmental Policy Act of 1969 (42 U.S.C. 4321 et seq.), an initial determination has been made that the activity proposed is categorically excluded from the requirement to prepare an environmental assessment or environmental impact statement.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of these applications to the Marine Mammal Commission and its Committee of Scientific Advisors.

Dated: July 8, 2002.
Eugene T. Nitta,
Acting Chief, Permits, Conservation and Education Division, Office of Protected Resources, National Marine Fisheries Service.

[FR Doc. 02-17556 Filed 7-11-02; 8:45 am]

BILLING CODE 3510-22-S